SECURITIES AND EXCHANGE COMMISSION

[Release No. 34-94994; File No. SR-PEARL-2022-09]

Self-Regulatory Organizations; MIAX PEARL, LLC; Notice of Withdrawal of Proposed Rule Change To Amend the MIAX PEARL Options Fee Schedule To Remove Certain Credits and Increase Trading Permit Fees

May 26, 2022.

On March 30, 2022, MIAX PEARL, LLC (“MIAX Pearl”) filed with the Securities and Exchange Commission (“Commission”), pursuant to Section 19(b)(1) of the Securities Exchange Act of 1934 ¹ and Rule 19b-4 thereunder,² a proposed rule change to remove certain credits and increase trading permit fees. The proposed rule change was published for comment in the Federal Register on April 18, 2022.³

¹ 15 U.S.C. 78s(b)(1).

² 17 CFR 240.19b-4.

³ See Securities Exchange Act Release No. 94696 (April 12, 2022), 87 FR 22987. Comments on the proposed rule change can be found at: https://www.sec.gov/comments/sr-pearl-2022-09/srpearl202209.htm.

On May 17, 2022, MIAX Pearl withdrew the proposed rule change (SR-PEARL-2022-09).

For the Commission, by the Division of Trading and Markets, pursuant to delegated authority.⁴
⁴ 17 CFR 200.30-3(a)(12).
J. Matthew DeLesDernier,
Assistant Secretary.

[FR Doc. 2022-11787 Filed 6-1-22; 8:45 am]

BILLING CODE 8011-01-P